DEPARTMENT OF COMMERCE

National Oceanic and Atmospheric Administration

50 CFR Part 648

[Docket No. 010413094-1094-01; I.D. 010902A]

Magnuson-Stevens Fishery Conservation and Management Act Provisions; Fisheries of the Northeastern United States; Atlantic Deep-Sea Red Crab Fishery; Closure

AGENCY: National Marine Fisheries Service (NMFS), National Oceanic and Atmospheric Administration (NOAA), Commerce.

ACTION: Closure.

SUMMARY: NMFS announces that, effective 0001 hours (l.t.), January 18, 2002, through May 14, 2002, notwithstanding any other regulations implemented for the Atlantic deep-sea red crab fishery, vessels may not fish for, possess, or land red crab in or from the U.S. exclusive economic zone (EEZ) in waters of the western Atlantic Ocean from 35°15.3′ N. lat., the latitude of Cape Hatteras Light, NC, northward to the U.S.-Canada border, in excess of 100 lb (45.4 kg) per trip. This action is based on a determination that the red crab total allowable catch (TAC) is projected to be reached as of January 18, 2002, and is necessary to prevent the fishery from exceeding the TAC established by the emergency rule that was published November 13, 2001.

DATES: Effective 0001 hours (l.t.), January 18, 2002, through 2400 hours, May 14, 2002.

FOR FURTHER INFORMATION CONTACT: E. Martin Jaffe, Fishery Policy Analyst, 978-281-9272, fax 978-281-9135, e-mail martin.jaffe@noaa.gov .

SUPPLEMENTARY INFORMATION: On May 8, 2001, NMFS published a red crab emergency interim rule (66 FR 23182) to address concerns that overfishing of the red crab resource may be occurring within the EEZ from Cape Hatteras Light, NC, northward to the U.S.-Canada border. This action contained measures that included a TAC of 2.5 million lb (1,134 mt) of red crab for the 180-day period of effectiveness for the rule. To help ensure that the TAC was not exceeded, this rule also contained regulations that required the closure of the directed red crab fishery as of the date NMFS determined that the total landings of red crab would reach or exceed the TAC. NMFS subsequently determined that the TAC was projected to be harvested prior to completion of the 180-day emergency action (through November 14, 2001) and on August 8, 2001, NMFS published notification of closure of the fishery effective August 17, 2001, through November 14, 2001, in the Federal Register (66 FR 41454).

On November 13, 2001, NMFS extended the expiration date of the emergency rule for an additional 180 days (through May 14, 2002) to continue protection of red crab while permanent measures are being developed by the New England Fishery Management Council (Council) (66 FR 56781). The extension adjusted the TAC for its 180-day duration to 2.16 million lb (979.8 mt). This TAC is based on one-half of an annual TAC of 5.0 million lb (2,268 mt), reduced by the overage caught during the initial emergency period (which was approximately 340,000 lb (154.22 mt)). The extension also contained regulations that require the closure of the directed red crab fishery as of the date NMFS determines that the total landings of red crab will reach or exceed the TAC.

NMFS has determined, based on landings and other available information, that 100 percent of the TAC for red crab will be harvested by January 18, 2002. Therefore, effective 0001 hours (l.t.), January 18, 2002, through May 14, 2002, notwithstanding any other regulations of subpart M of 50 CFR part 648, vessels may not fish for, possess, or land red crab from the U.S. EEZ in waters of the western Atlantic Ocean from 35°15.3′ N. lat., the latitude of Cape Hatteras Light, NC, northward to the U.S.-Canada border, in excess of 100 lb (45.4 kg) per trip.

Classification

This action is required by 50 CFR part 648 and is exempt from review under Executive Order 12866.

Authority: 16 U.S.C. 1801 et seq.

Dated: January 9, 2002.
Jonathan Kurland,
Acting Director, Office of Sustainable Fisheries, National Marine Fisheries Service.

[FR Doc. 02-866 Filed 1-9-02; 4:35 pm]

BILLING CODE 3510-22-S